DEPARTMENT OF THE INTERIOR

National Park Service

[NPS-WASO-NAGPRA-NPS0036651; PPWOCRADN0-PCU00RP14.R50000]

Notice of Inventory Completion: University of California, Berkeley, Berkeley, CA

AGENCY: National Park Service, Interior.

ACTION: Notice.

SUMMARY: In accordance with the Native American Graves Protection and Repatriation Act (NAGPRA), the University of California, Berkeley has completed an inventory of human remains and associated funerary objects and has determined that there is a cultural affiliation between the human remains and associated funerary objects and Indian Tribes or Native Hawaiian organizations in this notice. The human remains and associated funerary objects were removed from Sutter, Yuba, and western Placer Counties, CA.

DATES: Repatriation of the human remains and associated funerary objects in this notice may occur on or after October 30, 2023.

ADDRESSES: Alexandra Lucas, Repatriation Coordinator, Government and Community Relations (Chancellor's Office), University of California, Berkeley, 200 California Hall, Berkeley, CA 94720, telephone (510) 570-0964, email nagpra-ucb@berkeley.edu.

SUPPLEMENTARY INFORMATION: This notice is published as part of the National Park Service's administrative responsibilities under NAGPRA. The determinations in this notice are the sole responsibility of the University of California, Berkeley. The National Park Service is not responsible for the determinations in this notice. Additional information on the determinations in this notice, including the results of consultation, can be found in the inventory or related records held by the University of California, Berkeley.

Description

In September of 1933, human remains representing, at minimum, one individual were removed from an unknown location (CA-Pla-NL-1) in Placer County, CA, by the California Conservation Corps Superintendent and were donated to the Lowie Museum (today the Phoebe A. Hearst Museum of Anthropology) at the University of California, Berkeley. No associated funerary objects are present.

Sometime prior to 1947, human remains representing, at minimum, one individual were removed from an unknown location (CA-Pla-NL-2) in Placer County, CA, and were donated by James Moore to the Lowie Museum (today the Phoebe A. Hearst Museum of Anthropology) at the University of California, Berkeley. No associated funerary objects are present.

Sometime between 1931 and 1947, human remains representing, at minimum, one individual were removed from CA-Sut-11 in Sutter County, CA, by Jeremiah B. Lillard (Sacramento Junior College), Franklin Fenenga, Francis A. Riddell, Harry Starr Riddell Jr., Harry Starr Riddell Sr., A. Niehaus (Sacramento County Board of Education), Henry Gibbs, Leslie Barber, and E. B. Niehaus, Henry Gibbs. In 1947, James Moore donated these human remains to the Lowie Museum (today the Phoebe A. Hearst Museum of Anthropology) at the University of California, Berkeley. The 15 associated funerary objects are one lot consisting of baked and unbaked clay, one lot consisting of baskets, one lot consisting of beads, one lot consisting of charmstones, one lot consisting of cordage, one lot consisting of dough paddles, one lot consisting of faunal remains, one lot consisting of floral remains, one lot consisting of netting, one lot consisting of ornaments and pendants, one lot consisting of pipes, one lot consisting of shells, one lot consisting of textiles, one lot consisting of worked and unworked stones, and one lot consisting of worked faunal bones.

On February 14, 1957, human remains representing, at minimum, one individual were removed from CA-Sut-20 in Sutter County, California, by F. M. VanZant. The one associated funerary object is a lot consisting of beads.

Sometime between 1899 and 1928, human remains representing, at minimum, one individual were removed from an unknown location (CA-Sut-NL-1) in Sutter County, CA, by Benjamin W. Hathaway and were donated by Benjamin W. Hathaway and A. G. Colley to the Lowie Museum (today the Phoebe A. Hearst Museum of Anthropology). No associated funerary objects are present.

In 1954, human remains representing, at minimum, two individuals were removed from an unknown location (CA-Yub-NL-1) in Yuba County, CA, and were gifted by Stuart C. Way to the Lowie Museum (today the Phoebe A. Hearst Museum of Anthropology). No associated funerary objects are present.

Sometime between 1949 and 1953, human remains representing, at minimum, 11 individuals were removed from CA-Yub-5 in Yuba County, CA, and were donated to the Lowie Museum (today the Phoebe A. Hearst Museum of Anthropology) by Albert B. Elasser, James Allan, Martin A. Baumhoff (University of California Archaeological Survey), and Charles Miles. The 11 associated funerary objects are one lot consisting of baked and unbaked clay, one lot consisting of beads, one lot consisting of faunal remains, one lot consisting of floral remains, one lot consisting of glass, one lot consisting of level bag pieces, one lot consisting of metal, one lot consisting of ornaments and pendants, one lot consisting of shells, one lot consisting of worked and unworked stones, and one lot consisting of worked faunal bones.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: Tribal expert knowledge, geographical, linguistic, and anthropological.

Determinations

Pursuant to NAGPRA and its implementing regulations, and after consultation with the appropriate Indian Tribes and Native Hawaiian organizations, the University of California, Berkeley has determined that:

• The human remains described in this notice represent the physical remains of 18 individuals of Native American ancestry.

• The 27 objects described in this notice are reasonably believed to have been placed with or near individual human remains at the time of death or later as part of the death rite or ceremony.

• There is a relationship of shared group identity that can be reasonably traced between the human remains and associated funerary objects described in this notice and the United Auburn Indian Community of the Auburn Rancheria of California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 30, 2023. If competing requests for repatriation are received, the University of California, Berkeley must determine the most appropriate requestor prior to repatriation. Requests for joint repatriation of the human remains and associated funerary objects are considered a single request and not competing requests. The University of California, Berkeley is responsible for sending a copy of this notice to the Indian Tribe identified in this notice.

Authority: Native American Graves Protection and Repatriation Act, 25 U.S.C. 3003, and the implementing regulations, 43 CFR 10.9, § 10.10, and § 10.14.

Dated: September 20, 2023.
Melanie O'Brien,
Manager, National NAGPRA Program.

[FR Doc. 2023-21249 Filed 9-27-23; 8:45 am]

BILLING CODE 4312-52-P